DEPARTMENT OF THE INTERIOR

Fish and Wildlife Service

Notice of Receipt of Applications for Permit

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address below) and must be received within 30 days of the date of this notice.

PRT-051952

Applicant: Samuel M. Dollyhigh, Newport News, VA.

The applicant requests a permit to import the sport-hunted trophy of one male bontebok (Damaliscus pygargus dorcas) culled from a captive herd maintained under the management program of the Republic of South Africa for the purpose of enhancement of the survival of the species.

PRT-051994

Applicant: Thomas Henry Baird, Bowling Green, KY.

The applicant requests a permit to import the sport-hunted trophy of one male bontebok (Damaliscus pygargus dorcas) culled from a captive herd maintained under the management program of the Republic of South Africa, for the purpose of enhancement of the survival of the species.

PRT-050691

Applicant: Underwater World Guam, Tumon, Guam.

The applicant requests a permit to import 0.0.2 captive held Hawksbill sea turtle (Eretmochelys imbricata) as well as 0.0.2 captive held green sea turtle (Chelonia mydas) currently at Underwater World Singapore, Sentosa, Singapore for the purpose of enhancement of the species through conservation education and support of on-going scientific research.

PRT-724540

Applicant: Archie Carr Center for Sea Turtle Research, University of Florida, Gainsville, FL.

The applicant requests re-issuance of a permit to import biological samples collected from wild, captive held, and/or captive hatched leatherback sea turtle (Dermochelys coriacea), hawksbill sea turtle (Eretmochelys imbricata), green sea turtle (Chelonia mydas), kemp's ridley sea turtle (Lepidochelys kempii), and olive ridley sea turtle (L. olivacea) for the purpose of scientific research. Samples are to be collected from live or salvaged specimens. This notification covers activities conducted by the applicant over a five year period.

PRT-051712

Applicant: Melanie Culver, Virginia Polytechnic Institute & State University, Blacksburg, VA.

The applicant requests a permit to import biological samples from wild specimens of Madagascar fish eagle (Haliaeetus vociferoides) from Ruth Tingay, University of Nottingham, United Kingdom, for scientific research.

The U.S. Fish and Wildlife Service has information collection approval from OMB through March 31, 2004, OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203, telephone 703/358-2104 or fax 703/358-2281.

Dated: January 11, 2002.
Michael S. Moore,
Senior Permit Biologist, Branch of Permits, Division of Management Authority.

[FR Doc. 02-1878 Filed 1-24-02; 8:45 am]

BILLING CODE 4310-55-P